DEPARTMENT OF AGRICULTURE

Submission for OMB Review; Comment Request

May 23, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by June 28, 2018 will be considered. Written comments should be addressed to: Desk Officer for Agriculture, Office of Information and Regulatory Affairs, Office of Management and Budget (OMB), New Executive Office Building, 725—17th Street NW, Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Timber Sale Contract Operations and Administration.

OMB Control Number: 0596-0225.

Summary of Collection: The Forest Service (FS) is authorized under the National Forest Management Act (16 U.S.C. 472a); Contract Disputes Act of 1978; Food, Conservation, and Energy Act of 2008; Executive Order 11246, as amended by E.O. 11375 and E.O. 12086; 36 CFR 223.30-60 and 36 CFR 223.110-118; 40 CFR 112 and Forest Resources Conservation and Shortage Relief Act of 1990, § 620d Monitoring and Enforcement, as amended in 1997 by Public Law 105-83 and current through Public Law 110-450 and Agricultural Act of 2014, Title VIII Forestry, to collect information associated with operations and administration of bilateral contracts for the sale of timber and other forest products.

Need and Use of the Information: The information is needed by the FS for a variety of uses associated with operations and administration of contracts for the sale and disposal of National Forest System timber and other forest products. The information collected includes plans, inspections, requests for action by the other party, agreements, modifications, acceptance of work, and notices necessary for operations under the terms of the contracts. Each contract specifies the information the contractor will be required to provide, including the timing and frequency of the information collection. The information is submitted in a variety of formats including FS forms; Government Standard forms; forms developed by individual contractors, charts, maps, email messages and letters.

Description of Respondents: Business or other for-profit; Farms; Not-for-profit institutions.

Number of Respondents: 3,400.

Frequency of Responses: Reporting: Annually; Semi-annually; Monthly; On occasion.

Total Burden Hours: 40,139.

Ruth Brown,
Departmental Information Collection Clearance Officer.

[FR Doc. 2018-11387 Filed 5-25-18; 8:45 am]

BILLING CODE 3411-15-P